DEPARTMENT OF THE INTERIOR

National Park Service

[NPS-WASO-NAGPRA-23188; PPWOCRADN0-PCU00RP14.R50000]

Notice of Intent To Repatriate Cultural Items: U.S. Fish and Wildlife Service, Alaska Region, Anchorage, AK

AGENCY: National Park Service, Interior.

ACTION: Notice.

SUMMARY: The U.S. Fish and Wildlife Service, Alaska Region, Anchorage, AK (Alaska Region USFWS), in consultation with the appropriate Indian tribes or Native Hawaiian organizations, has determined that the cultural items listed in this notice meet the definition of unassociated funerary objects. Lineal descendants or representatives of any Indian tribe or Native Hawaiian organization not identified in this notice that wish to claim these cultural items should submit a written request to the Alaska Region USFWS. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Alaska Region USFWS, at the address in this notice by June 2, 2017.

ADDRESSES: Edward J. DeCleva, Regional Historic Preservation Officer, U.S. Fish and Wildlife Service, Alaska Region, 1011 East Tudor Road, MS-235, Anchorage, AK 99503, telephone (907) 786-3399, email Edward_decleva@fws.gov.

SUPPLEMENTARY INFORMATION: Notice is here given in accordance with the Native American Graves Protection and Repatriation Act (NAGPRA), 25 U.S.C. 3005, of the intent to repatriate cultural items under the control of the USFWS Alaska Region that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1967, 42 cultural items were removed from site NH-1, now identified as 49-XNI-003, in Nash Harbor, Nunivak Island, AK. They were transferred to the University of Oregon Museum of Natural and Cultural History in 2005. The 42 unassociated funerary objects are 1 girl's triangular wooden bowl; 2 fragments of a bone sled runner; 1 bone arrow shaft; 1 plain Nash Harbor ceramic vessel with grass and gravel temper; 1 ground slate whetstone; 1 piece of slate debitage; 33 pieces of Nash ceramics (some conjoined); and 2 matching fragments of a wood shaft.

In 1973, two cultural items were removed from site EN-1, now identified as 49-XNI-015, at Cape Etolin, Nunivak Island, AK. They were transferred to the University of Oregon Museum of Natural and Cultural History in 2005. The two unassociated funerary objects are 2 shotgun shells including shot and one bead.

Nunivak Island is traditional territory of the Central-Yup'ik-speaking Nunivak Eskimo or Nuniwarmiut people. Oral tradition and archeological investigations indicate that Nunivak Island was inhabited at least 2600 years ago and most likely continuously occupied by descendants of the initial population. The nature of the funerary artifacts suggests a post-contact age.

Determinations Made by the U.S. Fish and Wildlife Service, Alaska Region

Officials of the U.S. Fish and Wildlife Service, Alaska Region, have determined that:

• Pursuant to 25 U.S.C. 3001(3)(B), the 44 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Nuniwarmiut people of Alaska, today represented by the Native Village of Mekoryuk.

Additional Requestors and Disposition

Lineal descendants or representatives of any Indian tribe or Native Hawaiian organization not identified in this notice that wish to claim these cultural items should submit a written request with information in support of the claim to Edward J. DeCleva, Regional Historic Preservation Officer, U.S. Fish and Wildlife Service, Alaska Region, 1011 East Tudor Road, MS-235, Anchorage AK 99503, telephone (907) 786-3399, email Edward_decleva@fws.gov, by June 2, 2017. After that date, if no additional claimants have come forward, transfer of control of the unassociated funerary objects to the Native Village of Mekoryuk may proceed.

The U.S. Fish and Wildlife Service, Alaska Region, is responsible for notifying the Native Village of Mekoryuk that this notice has been published.

Dated: March 29, 2017.
Melanie O'Brien,
Manager, National NAGPRA Program.

[FR Doc. 2017-08880 Filed 5-2-17; 8:45 am]

BILLING CODE 4312-52-P